INTERNATIONAL TRADE COMMISSION

[Inv. No. 337-TA-545]

In the Matter of Certain Laminated Floor Panels; Notice of Investigation

AGENCY: U.S. International Trade Commission.

ACTION: Institution of investigation pursuant to 19 U.S.C. 1337.

SUMMARY: Notice is hereby given that a complaint was filed with the U.S. International Trade Commission on July 1, 2005, under section 337 of the Tariff Act of 1930, as amended, 19 U.S.C. 1337, on behalf of Unilin Beheer B.V. of the Netherlands, Flooring Industries Ltd. of Ireland, and Unilin Flooring N.C. LLC of Thomasville, North Carolina. The complaint alleges violations of section 337 in the importation into the United States, the sale for importation, and the sale within the United States after importation of certain laminated floor panels by reason of infringement of claims 1, 14, 17, 19, 20, 21, 37, 52, 65, and 66 of U.S. Patent No. 6,006,486, claims 1, 2, 10, 13, 18, 19, 22, 23, 24, and 27 of U.S. Patent No. 6,490,836, and claims 1-6 of U.S. Patent No. 6,874,292. The complaint further alleges that an industry in the United States exists as required by subsection (a)(2) of section 337.

The complainants request that the Commission institute an investigation and, after the investigation, issue a permanent exclusion order and permanent cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: David H. Hollander, Jr., Esq., Office of Unfair Import Investigations, U.S. International Trade Commission, telephone 202-205-2746.

Authority: The authority for institution of this investigation is contained in section 337 of the Tariff Act of 1930, as amended, and in section 210.10 of the Commission's Rules of Practice and Procedure, 19 CFR 210.10 (2005).

Scope of Investigation: Having considered the complaint, the U.S. International Trade Commission, on July 27, 2005, ordered that—

(1) Pursuant to subsection (b) of section 337 of the Tariff Act of 1930, as amended, an investigation be instituted to determine whether there is a violation of subsection (a)(1)(B) of section 337 in the importation into the United States, the sale for importation, or the sale within the United States after importation of certain laminated floor panels by reason of infringement of one or more of claims 1, 14, 17, 19, 20, 21, 37, 52, 65, and 66 of U.S. Patent No. 6,006,486, claims 1, 2, 10, 13, 18, 19, 22, 23, 24, and 27 of U.S. Patent No. 6,490,836, and claims 1-6 of U.S. Patent No. 6,874,292, and whether an industry in the United States exists as required by subsection (a)(2) of section 337.

(2) For the purpose of the investigation so instituted, the following are hereby named as parties upon which this notice of investigation shall be served:

(a) The complainants are—Unilin Beheer B.V., Hoogeveenenweg 28, Postbus 135, 2910 AC, Nieuwerkerk ann den Ijssel, The Netherlands.

Flooring Industries Ltd., Westblock I.F.S.C., Dublin 1, Republic of Ireland.

Unilin Flooring N.C. LLC, 3284 Denton Road, Thomasville, NC 27360.

(b) The respondents are the following entities alleged to be in violation of section 337, and are the parties upon which the complaint is to be served:

3E Business Enterprises Ltd., 5041 Manor St., Vancouver, BC V5R 3Y4, Canada.

AMZ (Ghangzhou) Wooden Industrial Co., Ltd., Amazon Industrial Garden, Pingbu Road Huadu, Guangzhou, Guangdong 510800 China.

Changzhou Dongjia Decorative Materials Co., Ltd., South Cuiqiao Industrial Zone, Henglin, Changzhou, Jiangsu 213103, China.

Changzhou Saili Wood Co., Ltd., Furong Town, Changzhou City, Jiangsu 213118, China.

Changzhou Wujin Zhongxin Wood Co., Ltd., #711 Building C, AnZhen-Foreign Trade Plaza, Hepingli Chaoyang District, Beijing 100013, China.

China Floors Co. Ltd., No. 188 Bao Yuan 4th Road, Huoxian Village JiangQiao Town, Jinbao Industrial Park, Jia Ding District, Shanghai 201812 China.

Dalton Carpet Liquidators, Inc., d/b/a Dalton Flooring Liquidators, 804 East Broad Street, Gadsden, AL 35903.

Fujian Yongan Forestry (Group) Joint, Stock Co., Ltd., No. 13 Nige, Yongan City, Fujian Province, China 366000.

HFC Horizon Flooring Ltd., 305 Holly Avenue, Columbus, OH 43212.

Huzhou Yongji Wooden Co., Ltd., No. 18 Nianfeng Road, Nanxun, Huzhou, Zhejiang 313009, China.

Inter Source Trading Corporation, 10F-N, Hongqiao Shijia Garden, No. 179, Zhongshan Road (W), Shanghai, China, and 201-3785 Myrtle St., Burnaby, BC, Canada V5C 4E7.

Jiangsu Lodgi Wood Industry Co. Ltd., 7/F, Furi Building, 169 Wuyi North Road, Fuzhou, China.

Lodgi North America, Inc., 11131 Bird Road, Richmond, BC V6X IN7, Canada.

Pacific Flooring Manufacture, Inc., 391 Foster City Blvd., Foster City, CA 94404.

P.J. Flooring Distributor, 1455 Monterey Pass Rd., Suite 105, Monterey Park, CA 91754.

Power Dekor Group Co., Ltd., 3/F Byfond Hotel, No. 1587, Zhangyang Rd, Shanghai 200135 China.

Quality Craft, Ltd., #301, 17750-65A Avenue, Surrey, BC V3S 5N4, Canada.

R.A.H. Carpet Supplies, Inc., 551 Main Avenue, Wallington, NJ 07057.

Salvage Building Material, Inc., 951 N. Liberty Street, Winston Salem, NC 27101.

Shanghai Dekorman Flooring Co., Ltd., No. 198 Zhongxin Road, Tianma, Songjian District, Shanghai, 201600 China.

Shanghai Zhengrun Industry, Development Co., Ltd., No. 7735 Fanghuang Road, Shanghai 200000, China.

Shengda Flooring Corp., 26-27/F Spectar Building, #42 Donghua Zhengjie Street, Chengdu City, China 610016.

Stalheim Industries Sdn Bhd, Lot 2994, Jalan Bukit Badong, 45600 Batang Berjuntai, Selangor Darul Ehsan, Malaysia.

Stalheim (USA), Inc., 17360 Colima Road #332, Rowland Heights, CA 91748.

Tsailin Floorings, Inc., 283, Building 3, #402 Siping Road, Hongkou Qu, Shanghai 200081 China.

Universal Floor Covering, Inc., 4500 Automall Parkway, Fremont, CA 94538.

Vegas Laminate Hardwood Floors LLC, 4059 Renate Drive, Las Vegas, NV 89103.

Vöhringer Wood Product (Shanghai) Co., Ltd., 1950 Huhang Road, Fengxian District, Shanghai 201415, China.

Yekalon Industry, Inc., Suite 16A, Flat A, Jinxiu Building, Wenjin Middle Road, Shenzhen, Guangdong 518003, China.

Yingbin (Shunde-Foshan) Wood Industry Co., Ltd., No. 163, Qichong Road, Dachong Town Zhongshan, Guangdong, 528403, China.

(c) David H. Hollander, Jr., Esq., Office of Unfair Import Investigations, U.S. International Trade Commission, 500 E Street, SW., Suite 401, Washington, DC 20436, who shall be the Commission investigative attorney, party to this investigation; and

(3) For the investigation so instituted, the Honorable Paul J. Luckern is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter a final determination containing such findings, and may result in the issuance of a limited exclusion order or cease and desist order or both directed against the respondent.

By order of the Commission.
Issued: July 28, 2005.
Marilyn R. Abbott,
Secretary to the Commission.

[FR Doc. 05-15260 Filed 8-2-05; 8:45 am]

BILLING CODE 7020-02-P